FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2015.

A. Federal Reserve Bank of Atlanta (Chapelle Davis, Assistant Vice President) 1000 Peachtree Street NE., Atlanta, Georgia 30309:

1. (15-005) Prior change in control notice filed by (1) Carolyn Harris Hall, Stevenson, Alabama; (2) Bill Hall, Stevenson, Alabama; (3) Gena Hall Blackmon, Stevenson, Alabama; (4) Revocable Trust for Julia Ann Harris Hale, Holbert Leon Hale, Jr., and Julia Ann Harris Hale, as Trustees; all of Newnan, Georgia; (5) Revocable Trust for Holbert Leon Hale, Jr., Holbert Leon Hale, Jr., and Julia Ann Harris Hale, as Trustees, all of Newnan, Georgia; (6) Mona Hale Peterman, Raleigh, North Carolina; (7) Benjamin Peterman, Raleigh, North Carolina; (8) Matthew Peterman, Raleigh, North Carolina; (9) Jennifer Hale Dickerson, Mount Pleasant, South Carolina; (10) Stephen Dickerson, Mount Pleasant, South Carolina; and (11) Patricia Searels, Austin, Texas; to retain 10 percent or more of the outstanding shares of First Bancshares of Stevenson, Inc., and its subsidiary, First Southern State Bank, both of Stevenson, Alabama.

Board of Governors of the Federal Reserve System, January 29, 2015.
Michael J. Lewandowski,
Associate Secretary of the Board.

[FR Doc. 2015-02078 Filed 2-2-15; 8:45 am]

BILLING CODE 6210-01-P